DEPARTMENT OF DEFENSE

Department of the Navy

Notice of Intent To Grant Partially Exclusive Patent License; Omega Sensors, Inc.

AGENCY: Department of the Navy, DoD.

ACTION: Notice.

SUMMARY: The Department of the Navy hereby gives notice of its intent to grant to Omega Sensors, Inc., a revocable, non-assignable, partially exclusive license in the United States to practice the Government-owned invention described in U.S. Patent Pending, entitled “Method of fabricating a dual-suspension system for MEMS-based devices”, Navy Case Number 96659.

DATES: Anyone wishing to object to the grant of this license must file written objections along with supporting evidence, if any, not later than September 8, 2006.

ADDRESSES: Written objections are to be filed with the Office of Research and Technology Applications, Space and Naval Warfare Systems Center, Code 2112, 83570 Silvergate Ave., Room 2306, San Diego, CA 92152-5048.

FOR FURTHER INFORMATION CONTACT: Dr. Stephen H. Lieberman, Office of Research and Technology Applications, Space and Naval Warfare Systems Center, Code 2112, 83570 Silvergate Ave., Room 2306, San Diego, CA 92152-5048, telephone 619-553-2778, or e-mail: stephen.lieberman@navy.mil.

(Authority: 35 U.S.C. 207, 37 CFR part 404.)

Dated: August 15, 2006.
M.A. Harvison,
Lieutenant Commander, Judge Advocate General's Corps, U.S. Navy, Federal Register Liaison Officer.

[FR Doc. E6-14028 Filed 8-23-06; 8:45 am]

BILLING CODE 3810-FF-P